DEPARTMENT OF HOMELAND SECURITY

Coast Guard

33 CFR Part 165

[Docket No. USCG-2011-0342]

Security and Safety Zone Regulations, Large Passenger Vessel Protection, Captain of the Port Columbia River Zone

AGENCY: Coast Guard, DHS.

ACTION: Notice of enforcement of regulation.

SUMMARY: The Coast Guard will enforce the security and safety zone in 33 CFR 165.1318 for large passenger vessels operating in the Captain of the Port, Columbia River Zone intermittently between the months of May and September 2011. This action is necessary to ensure the security and safety of the large passenger vessels, including their crew and passengers, as well as the maritime public. During the enforcement period, no person or vessel may enter the security and safety zone without permission from the Captain of the Port Columbia River.

DATES: The regulations in 33 CFR 165.1318 will be enforced during the following dates and times for the vessels noted:

(1) LPV Westerdam: From 6:30 a.m. May 4, 2011 through 12 a.m. (midnight) May 5, 2011.

(2) LPV Norwegian Pearl: From 6:30 a.m. May 5, 2011 through 12 a.m. (midnight) on May 6, 2011.

(3) LPV Millenium: From 7:30 a.m. May 9, 2011 through 12 a.m. (midnight) on May 10, 2011.

(4) LPV Sapphire Princess: From 5:30 a.m. May 11, 2011 through 12 a.m. (midnight) on May 12, 2011.

(5) LPV Seven Seas Navigator: From 6:30 a.m. May 15, 2011 through 12 a.m. (midnight) on May 16, 2011.

(6) LPV Island Princess: From 5:30 a.m. May 16, 2011 through 12 a.m. (midnight) on May 17, 2011.

(7) LPV Century: From 6:30 a.m. May 19, 2011 through 12 a.m. (midnight) on May 20, 2011.

(8) LPV Statendam: From 6:30 a.m. May 20, 2011 through 12 a.m. (midnight) on May 21, 2011.

(9) LPV Regatta: From 10:30 a.m. May 24, 2011 through 12 a.m. (midnight) on May 25, 2011.

(10) LPV Regatta: From 6:30 a.m. May 28, 2011 through 12 a.m. (midnight) on May 29, 2011.

(11) LPV Regatta: From 6:30 a.m. August 24, 2011 through 12 a.m. (midnight) on August 25, 2011.

(12) LPV Regatta: From 10:30 a.m. September 7, 2011 through 12 a.m. (midnight) on September 8, 2011.

(13) LPV Seven Seas Navigator: From 7:30 a.m. September 10, 2011 through 12 a.m. (midnight) on September 11, 2011.

(14) LPV Zuiderdam: From 10:30 a.m. September 25, 2011 through 12 a.m. on September 26, 2011.

(15) LPV Norwegian Pearl: From 7:30 a.m. September 26, 2011 through 12 a.m. (midnight) on September 27, 2011.

(16) LPV Norwegian Pearl: From 6:30 a.m. September 27, 2011 through 12 a.m. (midnight) on September 28, 2011.

FOR FURTHER INFORMATION CONTACT: If you have questions on this notice, call or e-mail MST1 Jaime Sayers, Coast Guard Marine Safety Unit Portland; telephone 503-240-9327, e-mail Jaime.a.Sayers@uscg.mil.

SUPPLEMENTARY INFORMATION: The Coast Guard will enforce the safety and security zone regulation in 33 CFR 165.1318 for large passenger vessels operating in the Columbia River Captain of the Port Zone during the dates and times listed in DATES.

Under the provisions of 33 CFR 165.1318 and 33 CFR 165 Subparts C and D, no person or vessel may enter or remain in the safety and security zone without permission of the Captain of the Port, Columbia River. Persons or vessels wishing to enter the safety and security zone may request permission to do so from the on-scene Captain of the Port representative via VHF Channel 16 or 13. The Coast Guard may be assisted by other Federal, State, or local enforcement agencies in enforcing this regulation.

This document is issued under authority of 33 CFR 165.1318 and 5 U.S.C. 552(a). In addition to this notice in the Federal Register, the Coast Guard will provide the maritime community with notification of this enforcement period via the Local Notice to Mariners.

Dated: May 3, 2011.
D.E. Kaup,
Captain, U.S. Coast Guard, Captain of the Port, Sector Columbia River.

[FR Doc. 2011-11800 Filed 5-12-11; 8:45 am]

BILLING CODE 9110-04-P